DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce (the Department) has received requests to conduct administrative reviews of various antidumping and countervailing duty orders and findings with August anniversary dates. In accordance with the Department's regulations, we are initiating those administrative reviews.

EFFECTIVE DATE: September 29, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2002), for administrative reviews of various antidumping and countervailing duty orders and findings with August anniversary dates.

Initiation of Reviews: In accordance with sections 19 CFR 351.221(c)(1)(i), we are initiating administrative reviews of the following antidumping and countervailing duty orders and findings. We intend to issue the final results of these reviews not later than August 31, 2007.

| Period to be reviewed
Antidumping Duty Proceedings
Argentina:
Oil Country Tubular Goods, A-357-810, Siderca, S.A.I.C | 8/1/05-7/31/06
Seamless Line and Pressure Pipe, A-357-809, Siderca, S.A.I.C | 8/1/05-7/31/06
Brazil: Seamless Pipe, A-351-826, V & M do Brasil S.A./Vallourec & Mannesmann Brazil | 8/1/05-7/31/06,
Canada: Corrosion-Resistant Carbon Steel Flat Products, A-122-822 | 8/1/05-7/31/06
Dofasco Inc.
Stelco Inc.
France: Corrosion-Resistant Carbon Steel Flat Products, A-427-808 | 8/1/05-7/31/06
Duferco Coating SA
Sorral SA
Italy: Granular Polytetrafluoroethylene (PTFE) Resin, A-475-703, Solvay Solexis, S.p.A | 8/1/05-7/31/06
Japan: Oil Country Tubular Goods, A-588-835 | 8/1/05-7/31/06
JFE Steel Corporation
Nippon Steel Corporation
NKK Tubes
Sumitomo Metal Industries, Ltd.
Malaysia: Polyethylene Retail Carrier Bags, A-557-813 | 8/1/05-7/31/06
Europlastics Malaysia Sdn. Bhd.
Eplastics Procurement Center Sdn. Bhd.
Mexico: Oil Country Tubular Goods, A-201-817 | 8/1/05-7/31/06
Hylsa, S.A. de C.V.
Tubos de Acero de Mexico, S.A.
Republic of Korea:
Corrosion-Resistant Carbon Steel Flat Products, A-580-816 | 8/1/05-7/31/06
Dongbu Steel Co., Ltd.
Hyundai HYSCO
Pohang Iron and Steel Co., Ltd./Pohang Coated Steel Co., Ltd./Pohang Steel Industries Co., Ltd.
Union Steel Manufacturing Co., Ltd.
Oil Country Tubular Goods, A-580-825 | 8/1/05-7/31/06
Husteel Co., Ltd.
Nexteel Co., Ltd.
SeAH Steel Corporation
Romania: Cut-to-Length Carbon Steel Plate, A-485-803 | 8/1/05-7/31/06
Metalexportimport, S.A.
Mittal Steel Galati S.A. (successor to Ispat Sidex)
Socialist Republic of Vietnam: Frozen Fish Fillets,¹ A-552-801 | 8/1/05-7/31/06
Alphasea Co., Ltd.
An Giang Agriculture and Foods Import Export Company (aka Afiex, A. Seafood, Afiex Seafood, or An Giang Afiex Company)
An Giang Agriculture Technology Service Company (aka ANTESCO)
An Giang Fisheries Import and Export Joint Stock Company (aka Agifish or AnGiang Fisheries Import and Export)
An Lac Seafood Co., Ltd.
ANHACO
Bamboo Food Co., Ltd.
Basa Co., Ltd.
Ben Tre Forestry and Aquaproduct Import-Export Company (aka FAQUIMEX)
Binh Dinh Import Export Company (aka Imex Binhdinh)
Blue Sky Co., Ltd.
Cam Ranh Seafood Processing Seaprodex Company
Can Tho Agricultural and Animal Products Import Export Company (aka CATACO)
Cantho Seafood Export (aka CASEAFOOD)
Can Tho Animal Fishery Products Processing Export Enterprise (aka Cafatex)
Cantho Import Export Seafood Joint Stock Company (CASEAMEX)
Da Nang Seaproducts Import-Export Corporation (aka Da Nang or Seaprodex Danang)
Dragon Waves Frozen Food Factory Co. |
Duyen Hai Foodstuffs Processing Factory (aka COSEAFEX). |
East Sea Seafoods Joint Venture Co., Ltd (aka East Sea Seafoods) ² |
Geologistics Ltd. |
Gepimex 404 Company. |
Hai Thach Trading Services Co., Ltd. |
Hai Vuong Co., Ltd. |
Hung Vuong Co., Ltd. |
Kien Giang Ltd. |
Mekongfish Company (aka Mekonimex or Mekong Fisheries Joint Stock Company) |
Nam Duong Co., Ltd (aka KP Khanh Loi or Nam Duong Trading Co.) |
Nam Hai Co., Ltd. |
Nam Viet Company Limited (aka NAVICO) |
Nhan Hoa Co., Ltd. |
Phan Quan Trading Co., Ltd. |
Phu Thanh Frozen Factory. |
Phu Thuan Company (aka PT Co.) |
Phuoc My Seafoods Processing Factory. |
Phuong Dong Seafood Co., Ltd. |
Quang Dung Food Co., Ltd. |
QVD Food Company, Ltd³ |
QVD Dong Thap Food Co., Ltd. |
Sadec Aquatic Products Import Enterprise (aka DOCIFISH) |
Thanh Viet Co. Ltd . |
Thuan Hung Co., Ltd (aka THUFICO) |
Tin Thinh Co. Ltd. |
Tuan Anh Company Limited. |
United Seafood Packers Co., Ltd. |
Van Duc Foods Export Joint Stock Co. |
Viet Hai Seafood Company Limited (aka Vietnam Fish-One Co., Ltd) |
Vinh Hiep Co., Ltd . |
Vinh Hoan Company, Ltd . |
Vinh Long Import-Export Company (aka Imex Cuu Long) |
VN Seafoods Co., Ltd. |
Lian Heng Investment Co., Ltd.⁴ | 10/22/04-7/31/06
Lian Heng Trading Co., Ltd . | 10/22/04-7/31/06
Thailand: Polyethylene Retail Carrier Bags, A-549-821 | 8/1/05-7/31/06
Advance Polybag Inc. |
Alpine Plastics Inc. |
APEC Film Ltd . |
API Enterprises Inc. |
Apple Film Co., Ltd. |
CP Packaging Industry Co. Ltd. |
King Pak Ind. Co. Ltd . |
Multibax Public Co., Ltd . |
Naraipak Co., Ltd . |
Polyplast (Thailand) Co., Ltd . |
Sahachit Watana Plastic Ind. Co., Ltd. |
Thai Plastic Bags Industries Co., Ltd . |
Thantawan Industry Public Co., Ltd . |
U. Yong Ltd, Part. |
U. Yong Industry Co., Ltd . |
Universal Polybag Co., Ltd. |
Winner's Pack Co., Ltd . |
The People's Republic of China:
Floor-Standing Metal-Top Ironing Tables ⁵, A-570-888 | 8/1/05-7/31/06
Foshan Shunde Yongjian Housewares & Hardware Co., Ltd
Since Hardware (Guangzhou) Co., Ltd
Petroleum Wax Candles ⁶, A-570-504 . | 8/1/05-7/31/06
Amstar Business Company Limited . |
Apex Enterprises International Ltd . |
Deseado International, Ltd . |
Fuzhou Eastown Arts Co., Ltd . |
Gift Creative Company, Ltd . |
Golden Industrial Co., Ltd . |
Maverick Enterprise Co., Ltd . |
Great Founder International Co. |
Qingdao Kingking Applied Chemistry Co., Ltd. |
Shantou Jinyuan Mingfeng Handicraft Co. |
Shanghai Shen Hong Arts and Crafts Co., Ltd. |
Shanghai Changran Enterprise, Ltd . |
Shenzhen Sam Lick Manufactory (and affiliated exporter Prudential (HK) Candles Manufacturing Co., Ltd) . |
Transfar International Corp. |
Polyethylene Retail Carrier Bags,⁷ A-570-886 | 8/1/05-7/31/06
Chun Hing Plastic Packaging Mfy. Ltd.
Chun Yip Plastic Bag Factory
Crown Polyethylene Products (Int'l) Ltd.
Dongguan Nozawa Plastics Co., Ltd. and United Power Packaging, Ltd. (collectively “Nozawa”)
Heng Rong Plastic Products Co., Ltd.
Rally Plastics Co., Ltd.
Samson Plastic Manufactory Co., Ltd.
Countervailing Duty Proceedings
Canada:
Alloy Magnesium, C-122-815, Norsk Hydro Canada Inc | 1/1/05-8/15/05
Pure Magnesium, C-122-815, Norsk Hydro Canada Inc | 1/1/05-8/15/05
Republic of Korea:
Corrosion-Resistant Carbon Steel Flat Products, C-580-818 | 1/1/05-12/31/05
Dongbu Steel Co., Ltd
Pohang Iron & Steel Co., Ltd.
Dynamic Random Access Memory Semiconductors, C-580-851, Hynix Semiconductor, Inc. (formerly Hyundai Electronics Industries Co., Ltd.) | 1/1/05-12/31/05
Stainless Steel Sheet and Strip in Coils, C-580-835, Dai Yang Metal Co., Ltd | 1/1/05-12/31/05
Suspension Agreements
None |
¹ If one of the above named companies does not qualify for a separate rate, all other exporters of frozen fish fillets from the Socialist Republic of Vietnam who have not qualified for a separate rate are deemed to be covered by this review as part of the single Vietnam entity of which the named exporters are a part.
² On August 31, 2006, East Sea Seafoods requested a new shipper review and an administrative review.
³ On August 31, 2006, this company also separately requested for an administrative review under the name QVD Food So., Ltd. (“QVD”).
⁴ Both Lian Heng Investment Co., Ltd. and Lian Heng Trading Co., Ltd. are Cambodian companies. They are included in this initiation with an expanded POR pursuant to the Department's recent partial affirmative final determination of circumvention of the antidumping duty order on certain frozen fish fillets from Vietnam. See Circumvention and Scope Inquiries on the Antidumping Duty Order on Certain Frozen Fish Fillets from the Socialist Republic of Vietnam: Partial Affirmative Final Determination of Circumvention of the Antidumping Duty Order, Partial Final Termination of Circumvention Inquiry and Final Rescission of Scope Inquiry, 71 FR 38608, 38610-11 (July 7, 2006).
⁵ If one of the above named companies does not qualify for a separate rate, all other exporters of floor-standing metal-top ironing tables from the People's Republic of China who have not qualified for a separate rate are deemed to be covered by this review as part of the single PRC entity of which the named exporters are a part.
⁶ If one of the above named companies does not qualify for a separate rate, all other exporters of petroleum wax candles from the People's Republic of China who have not qualified for a separate rate are deemed to be covered by this review as part of the single PRC entity of which the named exporters are a part.
⁷ If one of the above named companies does not qualify for a separate rate, all other exporters of polyethylene retail carrier bags from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistant with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: September 26, 2006.
Thomas F. Futtner,
Acting Office Director, AD/CVD Operations, Office 4, Import Administration.

[FR Doc. E6-16067 Filed 9-28-06; 8:45 am]

BILLING CODE 3510-DS-P